COMMITTEE FOR THE IMPLEMENTATION OF TEXTILE AGREEMENTS

Request for Public Comments on the Elimination of the Paper Visa Requirement for Certain Textile Products Exported from the Philippines

August 13, 2001.

AGENCY: Committee for the Implementation of Textile Agreements (CITA).

ACTION: Request for public comments.

FOR FURTHER INFORMATION CONTACT: Lori Mennitt, Office of Textiles and Apparel, U.S. Department of Commerce, (202) 482-3400.

SUPPLEMENTARY INFORMATION:

Authority: Section 204 of the Agricultural Act of 1956, as amended (7 U.S.C. 1854); Executive Order 11651 of March 3, 1972, as amended.

Pursuant to a textile visa arrangement between the United States and the Government of the Philippines, certain textiles and textile products exported from the Philippines must be accompanied by a visa issued by the Government of the Philippines in order to be imported into the United States. See 44 FR 68005 (November 28, 1979).

The Electronic Visa Information System (ELVIS) allows certain foreign governments to electronically transfer textile and textile product shipment information to the U.S. Customs Service and thereby issue a visa electronically. On August 18, 1997 (62 FR 43993), CITA announced that the Government of the Philippines would begin an ELVIS test implementation phase using both paper and electronic visas.

As a result of successful use of the dual visa system, preparations are under way to move beyond the current dual system to the paperless ELVIS system with the Philippines. Exempt goods, for example cottage industry handwoven and handloomed fabrics, handmade articles and garments of handwoven and handloomed fabric, and traditional folklore handicraft products, would still require an exempt certification issued by the Government of the Philippines.

CITA is soliciting public comments on the elimination of the paper visa requirement for the Philippines and utilization of the ELVIS system exclusively. Comments must be received on or before October 16, 2001. Comments may be mailed to D. Michael Hutchinson, Acting Chairman, Committee for the Implementation of Textile Agreements, room 3001, U.S. Department of Commerce, 14th and Constitution Avenue, N.W., Washington, DC 20230.

The solicitation of comments is not a waiver in any respect of the exemption to the rulemaking provisions contained in 5 U.S.C. 553(a)(1) relating to matters which constitute "a foreign affairs function of the United States."

D. Michael Hutchinson,
Acting Chairman, Committee for the Implementation of Textile Agreements.

[FR Doc.01-20762 Filed 8-16-01; 8:45 am]

BILLING CODE 3510-DR-S